NATIONAL AERONAUTICS AND SPACE ADMINISTRATION

[Notice 03-141]

Government-Owned Inventions, Available for Licensing

AGENCY: National Aeronautics and Space Administration.

ACTION: Notice of availability of inventions for licensing.

SUMMARY: The inventions listed below are assigned to the National Aeronautics and Space Administration, have been filed in the United States Patent and Trademark office, and are available for licensing.

DATES: November 4, 2003.

FOR FURTHER INFORMATION CONTACT: Diana M. Cox, Patent Counsel, Goddard Space Flight Center, Mail Code 503, Greenbelt, MD 20771-0001; telephone (301) 286-7351; fax (301) 286-9502.

NASA Case No. GSC-14436-1: Minimum Cycle Slip Airborne Differential Carrier Phase GPS Antenna;

NASA Case No. GSC-14673-1: Computing Instantaneous Frequency By Normalizing Hilbert Transform.

Dated: October 29, 2003.
Robert M. Stephens,
Deputy General Counsel.

[FR Doc. 03-27684 Filed 11-3-03; 8:45 am]

BILLING CODE 7510-01-P